DEPARTMENT OF ENERGY

Federal Energy Regulatory Commission

[Docket No. CP14-86-000]

Vermont Gas Systems, Inc.; Notice of Application

Take notice that on February 19, 2014, Vermont Gas Systems Inc. (VGS) filed with the Federal Energy Regulatory Commission an application under section 7(f) of the Natural Gas Act (NGA) requesting a service area determination within which it may enlarge or expand its natural gas distribution facilities without further Commission authorization. VGS also requests: (i) A finding that VGS qualifies as a local distribution company (LDC) for purposes of Section 311 of the Natural Gas Policy Act of 1978 (NGPA); (ii) a waiver of the Commission's accounting and reporting requirements and other regulatory requirements ordinarily applicable to natural gas companies under the NGA and NGPA; (iii) any other relief as deemed appropriate; and (iv) expedited treatment of its Application.

VGS is expanding its distribution facilities in Vermont and has been asked to provide natural gas service to International Paper at its Ticonderoga Mill in Ticonderoga County, New York. The total length of pipeline proposed to be constructed in New York is 1,600 feet of low pressure distribution line from the New York/Vermont state line to the Ticonderoga Mill. VGS's application is on file with the Commission and open to public inspection. This filing is available for review at the Commission in the Public Reference Room or may be viewed on the Commission's Web site web at http://www.ferc.gov using the “eLibrary” link. Enter the docket number excluding the last three digits in the docket number field to access the document. For assistance, contact FERC at FERCOnlineSupport@ferc.gov or call toll-free, (886) 208-3676 or TYY, (202) 502-8659.

Any questions regarding the application should be directed to Eileen Simollardes, Vice President, Regulatory Affairs, Vermont Gas Systems Inc., 85 Swift Street, South Burlington, VT 05403, by phone at (802) 951-0355 or by email at esimollardes@vermontgas.com or to Elizabeth W. Whittle, Nixon Peabody, LLP, 401 Ninth Street NW., Suite 900, Washington, DC 20004, by phone at (202) 585-8338 or by email at eshittle@nixonpeabody.com.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit seven copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and seven copies of the protest or intervention to the Federal Energy Regulatory Commission, 888 First Street NE., Washington, DC 20426.

Comment Date: 5:00 p.m. Eastern Time on March 12, 2014.

Dated: February 28, 2014.
Kimberly D. Bose,
Secretary.

[FR Doc. 2014-05120 Filed 3-7-14; 8:45 am]

BILLING CODE 6717-01-P